DEPARTMENT OF COMMERCE

National Oceanic and Atmospheric Administration

RIN 0648-XE407

Magnuson-Stevens Act Provisions; General Provisions for Domestic Fisheries; Application for Exempted Fishing Permits

AGENCY: National Marine Fisheries Service (NMFS), National Oceanic and Atmospheric Administration (NOAA), Commerce.

ACTION: Notice; request for comments.

SUMMARY: We have made a preliminary determination that an Exempted Fishing Permit application contains all of the required information and warrants further consideration. This EFP would allow two commercial fishing vessels to trawl for summer flounder using an experimental Turtle Excluder Device to test target species catch retention rates, and exempt the vessels from minimum size requirements and possession limits found at 50 CFR part 648 in order to sample the catch for scientific purposes.

The Magnuson-Stevens Fishery Conservation and Management Act requires publication of this notice to provide the public an opportunity to comment on the proposed Exempted Fishing Permit.

DATES: Comments must be received on or before March 31, 2016.

ADDRESSES: You may submit written comments by any of the following methods:

• Email: NMFS.GAR.EFP@noaa.gov. Include in the subject line “Comments on CFF Fluke Cable TED EFP.”

• Mail: John K. Bullard, Regional Administrator, NMFS, Greater Atlantic Regional Office, 55 Great Republic Drive, Gloucester, MA 01930. Mark the outside of the envelope “Comments on CFF Fluke Cable TED EFP.”

FOR FURTHER INFORMATION CONTACT: Elizabeth Scheimer, Fisheries Management Specialist, 978-281-9236, Elizabeth.scheimer@noaa.gov.

SUPPLEMENTARY INFORMATION: The Coonamessett Farm Foundation (CFF) submitted a complete application for an Exempted Fishing Permit (EFP) on December 15, 2015, to conduct commercial fishing activities that the regulations would otherwise restrict. The EFP would authorize two vessels to temporarily retain undersized and prohibited catch for biological sampling during experimental Turtle Excluder Device (TED) testing in the summer flounder fishery.

Currently approved TEDs have been shown to reduce summer flounder targeted catch at a level that is of concern to the industry, and the objective of this research is to find TED gear configurations that exclude sea turtles while maintaining target catch. The CFF would test an experimental TED made of flexible cable instead of aluminum or steel pipe in bottom trawl gear directed on summer flounder. The TED was already tested in 2015 for its ability to exclude sea turtles, but is not yet certified, and this research will quantify catch retention. This TED would be attached in a 3-inch mesh TED extension which meets applicable gear requirements. All fishing would occur north of the Summer Flounder Fishery Sea Turtle Exemption Area (37°05′ N latitude), in waters where approved TEDs are not required, and no Endangered Species Act (ESA) research permit would be required.

Eighty tows would be conducted between March and October 2016, in southern New England and mid-Atlantic waters. A trawl net with the modified TED would be compared against a control net of the vessels' standard bottom trawl gear. Paired tows would be conducted across multiple strata with trawl times of 60-90 minutes. Data collected on total catch would include total weight and length measurements on all summer flounder. Other landed species will be sampled if conditions permit, or a representative subsample will be taken. Underwater camera equipment would be installed in the net to investigate the performance of the cable TED, the fishing gear, and any potential problems in the rigging of the TED. All participating vessels would have permits and quota to target summer flounder, which would be kept and sold consistent with applicable regulations. All bycatch would be returned to the sea as soon as practicable following data collection.

If approved, the applicant may request minor modifications and extensions to the EFP throughout the year. EFP modifications and extensions may be granted without further notice if they are deemed essential to facilitate completion of the proposed research and have minimal impacts that do not change the scope or impact of the initially approved EFP request. Any fishing activity conducted outside the scope of the exempted fishing activity would be prohibited.

Authority: 16 U.S.C. 1801 et seq.

Dated: March 10, 2016.
Emily H. Menashes,
Acting Director, Office of Sustainable Fisheries, National Marine Fisheries Service.

[FR Doc. 2016-05823 Filed 3-15-16; 8:45 am]

BILLING CODE 3510-22-P